DEPARTMENT OF TRANSPORTATION

Federal Aviation Administration

14 CFR Part 97

[Docket No. 31053; Amdt. No. 3675]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 3, 2016. The compliance date for each SIAP, associated Takeoff Minimums, and ODP is specified in the amendatory provisions.

The incorporation by reference of certain publications listed in the regulations is approved by the Director of the Federal Register as of February 3, 2016.

ADDRESSES: Availability of matters incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPs, Takeoff Minimums and/or ODPs as identified in the amendatory language for part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on December 18, 2015.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 4 FEBRUARY 2016

Fort Yukon, AK, Fort Yukon, VOR/DME OR TACAN-A, Amdt 1, CANCELED

Decatur, AL, Pryor Field Rgnl, ILS Y OR LOC Y RWY 18, Orig

Decatur, AL, Pryor Field Rgnl, ILS Z OR LOC Z RWY 18, Amdt 1

Decatur, AL, Pryor Field Rgnl, RNAV (GPS) RWY 18, Amdt 2

Decatur, AL, Pryor Field Rgnl, RNAV (GPS) RWY 36, Amdt 2

Bentonville, AR, Bentonville Muni/Louise M Thaden Field, VOR/DME-B, AMDT 6, CANCELED

Rogers, AR, Rogers Executive-Carter Field, VOR/DME RWY 20, Amdt 10B, CANCELED

Los Angeles, CA, Los Angeles Intl, ILS OR LOC RWY 6L, Amdt 12D

Los Angeles, CA, Los Angeles Intl, ILS OR LOC RWY 7L, Amdt 7D

Los Angeles, CA, Los Angeles Intl, ILS OR LOC RWY 7R, Amdt 6E

Los Angeles, CA, Los Angeles Intl, ILS OR LOC RWY 25R, Amdt 17D

Los Angeles, CA, Los Angeles Intl, RNAV (GPS) RWY 25R, Amdt 2C

Los Angeles, CA, Los Angeles Intl, RNAV (GPS) Y RWY 6L, Amdt 1C

Los Angeles, CA, Los Angeles Intl, RNAV (GPS) Y RWY 7L, Amdt 2E

Los Angeles, CA, Los Angeles Intl, RNAV (GPS) Y RWY 7R, Amdt 2C

Los Angeles, CA, Los Angeles Intl, RNAV (GPS) Y RWY 24R, Amdt 1B

Los Angeles, CA, Los Angeles Intl, RNAV (GPS) Y RWY 25L, Amdt 3C

Los Angeles, CA, Los Angeles Intl, RNAV (RNP) Z RWY 6L, Orig-C

Los Angeles, CA, Los Angeles Intl, RNAV (RNP) Z RWY 7L, Orig-D

Los Angeles, CA, Los Angeles Intl, RNAV (RNP) Z RWY 7R, Orig-C

Los Angeles, CA, Los Angeles Intl, RNAV (RNP) Z RWY 24R, Orig-C

Los Angeles, CA, Los Angeles Intl, RNAV (RNP) Z RWY 25L, Amdt 1C

Los Angeles, CA, Los Angeles Intl, Takeoff Minimums and Obstacle DP, Amdt 12A

San Bernardino, CA, San Bernardino Intl, NDB RWY 6, Amdt 1A, CANCELED

Georgetown, DE, Delaware Coastal, RNAV (GPS) RWY 4, Amdt 3

Deland, FL, Deland Muni-Sidney H Taylor Field, RADAR-1, Amdt 3, CANCELED

Jacksonville, FL, Jacksonville Executive at Craig, VOR/DME RWY 32, Amdt 3A, CANCELED

Marianna, FL, Marianna Muni, RNAV (GPS) RWY 18, Amdt 1

St Augustine, FL, Northeast Florida Rgnl, VOR RWY 31, Orig-A, CANCELED

Atlanta, GA, Hartsfield-Jackson Atlanta Intl, Takeoff Minimums and Obstacle DP, Amdt 7

Augusta, GA, Daniel Field, NDB/DME-C, Amdt 4A, CANCELED

Cordele, GA, Crisp County-Cordele, NDB RWY 10, Amdt 5, CANCELED

Pine Mountain, GA, Harris County, NDB RWY 9, Amdt 9A, CANCELED

Thomson, GA, Thomson-McDuffie County, NDB RWY 10, Amdt 1A, CANCELED

Sioux City, IA, Sioux Gateway/Col Bud Day Field, NDB RWY 13, Amdt 15G, CANCELED

Sioux City, IA, Sioux Gateway/Col Bud Day Field, NDB RWY 31, Amdt 23E, CANCELED

Salmon, ID, Lemhi County, Takeoff Minimums and Obstacle DP, Amdt 3

Quincy, IL, Quincy Rgnl-Baldwin Field, VOR/DME RWY 22, Amdt 8, CANCELED

Bloomington, IN, Monroe County, VOR/DME RWY 24, Amdt 12A, CANCELED

Bloomington, IN, Monroe County, VOR/DME RWY 35, Amdt 15B, CANCELED

New Castle, IN, New Castle-Henry Co Muni, NDB RWY 27, Amdt 6, CANCELED

Augusta, KS, Augusta Muni, RNAV (GPS) RWY 36, Amdt 1

Augusta, KS, Augusta Muni, VOR/DME-A, Amdt 2

Ottawa, KS, Ottawa Muni, Takeoff Minimums and Obstacle DP, Amdt 2

Glasgow, KY, Glasgow Muni, RNAV (GPS) RWY 26, Amdt 2A

Baton Rouge, LA, Baton Rouge Metropolitan, Ryan Field, ILS OR LOC/DME RWY 22R, ILS RWY 22R (SA CAT I), ILS RWY 22R (SA CAT II), Amdt 12A

Baton Rouge, LA, Baton Rouge Metropolitan, Ryan Field, VOR/DME RWY 22R, Amdt 9A

Houma, LA, Houma-Terrebonne, VOR RWY 12, Amdt 5D, CANCELED

Patterson, LA, Harry P Williams Memorial, VOR/DME-A, Amdt 10B, CANCELED

Shreveport, LA, Shreveport Downtown, LOC RWY 14, Amdt 5

Shreveport, LA, Shreveport Downtown, RNAV (GPS) RWY 14, Amdt 1

Shreveport, LA, Shreveport Downtown, Takeoff Minimums and Obstacle DP, Amdt 3B

Shreveport, LA, Shreveport Downtown, VOR RWY 14, Amdt 15A, CANCELED

Shreveport, LA, Shreveport Rgnl, ILS OR LOC RWY 14, ILS RWY 14 (CAT II), Amdt 26

Shreveport, LA, Shreveport Rgnl, ILS OR LOC RWY 32, Amdt 6

Shreveport, LA, Shreveport Rgnl, LOC RWY 6, Amdt 3

Shreveport, LA, Shreveport Rgnl, RNAV (GPS) RWY 6, Amdt 3

Shreveport, LA, Shreveport Rgnl, RNAV (GPS) RWY 14, Amdt 2

Shreveport, LA, Shreveport Rgnl, RNAV (GPS) RWY 24, Amdt 2

Shreveport, LA, Shreveport Rgnl, RNAV (GPS) RWY 32, Amdt 2

Fitchburg, MA, Fitchburg Muni, NDB RWY 20, Amdt 6B, CANCELED

Fitchburg MA, Fitchburg Muni, RNAV (GPS) RWY 14, Orig-C

Fitchburg MA, Fitchburg Muni, RNAV (GPS) RWY 32, Orig-D

Marshfield, MA, Marshfield Muni—George Harlow Field, NDB RWY 6, Amdt 5, CANCELED

Stow, MA, Minute Man Air Field, NDB-A, Amdt 8, CANCELED

Baltimore, MD, Baltimore/Washington Intl Thurgood Marshall, RNAV (GPS) RWY 15L, Amdt 4

Alpena, MI, Alpena County Rgnl, NDB RWY 1, Amdt 7A, CANCELED

Howell, MI, Livingston County Spencer J Hardy, NDB RWY 13, Amdt 3A, CANCELED

Kalamazoo, MI, Kalamazoo/Battle Creek Intl, NDB RWY 35, Amdt 19B, CANCELED

Kalamazoo, MI, Kalamazoo/Battle Creek Intl, VOR RWY 5, Orig-C, CANCELED

Kalamazoo, MI, Kalamazoo/Battle Creek Intl, VOR RWY 17, Amdt 18B, CANCELED

Kalamazoo, MI, Kalamazoo/Battle Creek Intl, VOR RWY 23, Amdt 17B, CANCELED

Menominee, MI, Menominee-Marinette Twin County, NDB RWY 3, Amdt 3, CANCELED

Austin, MN, Austin Muni, VOR RWY 35, Amdt 2A, CANCELED

Austin, MN, Austin Muni, VOR/DME-A, Amdt 3, CANCELED

Bemidji, MN, Bemidji Rgnl, VOR/DME RWY 31, Amdt 1, CANCELED

Fairmont, MN, Fairmont Muni, VOR/DME RWY 31, Amdt 1B, CANCELED

Fergus Falls, MN, Fergus Falls Muni-Einar Mickelson Fld, NDB RWY 31, Amdt 2, CANCELED

Fergus Falls, MN, Fergus Falls Muni-Einar Mickelson Fld, VOR RWY 35, Amdt 10, CANCELED

Park Rapids, MN, Park Rapids Muni-Konshok Field, NDB RWY 31, Amdt 2A, CANCELED

St Cloud, MN, St Cloud Rgnl, VOR/DME RWY13, Orig-A, CANCELED

Winona, MN, Winona Muni-Max Conrad Fld, ILS Y OR LOC/DME Y RWY 30, Orig

Winona, MN, Winona Muni-Max Conrad Fld, ILS Z OR LOC/DME Z RWY 30, Orig

Winona, MN, Winona Muni-Max Conrad Fld, LOC RWY 30, Orig, CANCELED

Winona, MN, Winona Muni-Max Conrad Fld, NDB RWY 30, Orig, CANCELED

Winona, MN, Winona Muni-Max Conrad Fld, RNAV (GPS) RWY 30, Amdt 2

Winona, MN, Winona Muni-Max Conrad Fld, Takeoff Minimums and Obstacle DP, Amdt 5

Winona, MN, Winona Muni-Max Conrad Fld, VOR RWY 30, Amdt 16A, CANCELED

Winona, MN, Winona Muni-Max Conrad Fld, VOR-A, Amdt 13, CANCELED

Worthington, MN, Worthington Muni, NDB RWY 29, Amdt 1A, CANCELED

Drew, MS, Ruleville-Drew, RNAV (GPS) RWY 18, Orig

Drew, MS, Ruleville-Drew, RNAV (GPS) RWY 36, Orig

Drew, MS, Ruleville-Drew, VOR-A, Amdt 5

Louisville, MS, Louisville Winston County, RNAV (GPS) RWY 17, Amdt 2

Louisville, MS, Louisville Winston County, RNAV (GPS) RWY 35, Amdt 2

West Point, MS, McCharen Field, VOR-A, Amdt 4A, CANCELED

Greenville, NC, Pitt-Greenville, ILS Y OR LOC Y RWY 20, Orig

Greenville, NC, Pitt-Greenville, ILS Z OR LOC Z RWY 20, Amdt 5

Greenville, NC, Pitt-Greenville, RNAV (GPS) RWY 2, Amdt 1

Greenville, NC, Pitt-Greenville, RNAV (GPS) RWY 20, Amdt 3

Greenville, NC, Pitt-Greenville, Takeoff Minimums and Obstacle DP, Amdt 5

Fargo, ND, Hector Intl, VOR/DME OR TACAN RWY18, Amdt 1C, CANCELED

Williston, ND, Sloulin Fld Intl, NDB RWY 29, Amdt 3, CANCELED

Cambridge, NE., Cambridge Muni, NDB RWY 32, Amdt 4A, CANCELED

Chadron, NE., Chadron Muni, ILS OR LOC RWY 3, Amdt 2C

Chadron, NE., Chadron Muni, NDB RWY21, Amdt 12C

Chadron, NE., Chadron Muni, RNAV (GPS) RWY 3, Amdt 1B

Chadron, NE., Chadron Muni, RNAV (GPS) RWY 12, Orig-B

Chadron, NE., Chadron Muni, RNAV (GPS) RWY 21, Amdt 2B

Chadron, NE., Chadron Muni, RNAV (GPS) RWY 30, Orig-B

Chadron, NE., Chadron Muni, Takeoff Minimums and Obstacle DP, Amdt 1

Omaha, NE., Eppley Airfield, VOR/DME RWY 32L, Amdt 12, CANCELED

Atlantic City, NJ, Atlantic City Intl, RADAR-1, Amdt 16

Hammonton, NJ, Hammonton Muni, VOR-A, Amdt 7A, CANCELED

Millville, NJ, Millville Muni, NDB RWY 14, Amdt 6A, CANCELED

Pittstown, NJ, Alexandria, RNAV (GPS)-A, Orig-A

Alamogordo, NM, Alamogordo-White Sands Rgnl, VOR/DME RWY 3, Orig-B, CANCELED

Battle Mountain, NV, Battle Mountain, VOR-A, Amdt 5, CANCELED

New York, NY, John F Kennedy Intl, RNAV (GPS) Y RWY 4L, Amdt 2A

New York, NY, John F Kennedy Intl, RNAV (RNP) Z RWY 4L, Amdt 1A

Springfield, OH, Springfield-Beckley Muni, VOR RWY 24, Amdt 11, CANCELED

Easton, PA, Braden Airpark, GPS RWY 36, Orig, CANCELED

Easton, PA, Braden Airpark, RNAV (GPS)-A, Orig

Easton, PA, Braden Airpark, VOR/DME OR GPS-D, Orig-C, CANCELED

Dyersburg, TN, Dyersburg Rgnl, RNAV (GPS) RWY 4, Amdt 2B

Dyersburg, TN, Dyersburg Rgnl, RNAV (GPS) RWY 22, Amdt 1B

Bellingham, WA, Bellingham Intl, RNAV (GPS) Y RWY 34, Amdt 2

Eastsound, WA, Orcas Island, RNAV (GPS) RWY 16, Amdt 1

Eastsound, WA, Orcas Island, RNAV (GPS)-A, Amdt 1

Eastsound, WA, Orcas Island, Takeoff Minimums and Obstacle DP, Amdt 4

Point Pleasant, WV, Mason County, Takeoff Minimums and Obstacle DP, Amdt 4A

RESCINDED: On December 7, 2015 (80 FR 75926), the FAA published an Amendment in Docket No. 31046, Amdt No. 3669, to Part 97 of the Federal Aviation Regulations under section 97.33. The following entry for Richmond, KY, effective December 10, 2015 is hereby rescinded in its entirety:

Richmond, KY, Central Kentucky Rgnl, RNAV (GPS) RWY 18, Amdt 1B

Richmond, KY, Central Kentucky Rgnl, RNAV (GPS) RWY 36, Amdt 2

[FR Doc. 2016-01864 Filed 2-2-16; 8:45 am]

BILLING CODE 4910-13-P